DEPARTMENT OF DEFENSE

Defense Acquisition Regulations System

Early Engagement Opportunity: Implementation of National Defense Authorization Act for Fiscal Year 2019

AGENCY: Department of Defense (DoD).

ACTION: Notice.

SUMMARY: DoD announces an early engagement opportunity regarding implementation of the National Defense Authorization Act for Fiscal Year 2019 within the acquisition regulations.

DATES: Early inputs should be submitted in writing via the Defense Acquisition Regulations System (DARS) website shown below. The website will be updated when early inputs will no longer be accepted.

ADDRESSES: Submit early inputs via the DARS website at http://www.acq.osd.mil/dpap/dars/index.html.

FOR FURTHER INFORMATION CONTACT: Send inquiries via email to osd.dfars@mail.mil and reference “Early Engagement Opportunity: Implementation of NDAA for FY 2019” in the subject line.

SUPPLEMENTARY INFORMATION: DoD is providing an opportunity for the public to provide early inputs on implementation of the National Defense Authorization Act (NDAA) for Fiscal Year (FY) 2019 within the acquisition regulations. The public is invited to submit early inputs on sections of the NDAA for FY 2019 via the DARS website at http://www.acq.osd.mil/dpap/dars/index.html. The website will be updated when early inputs will no longer be accepted. Please note, this venue does not replace or circumvent the rulemaking process; DARS will engage in formal rulemaking, in accordance with 41 U.S.C. 1303, when it has been determined that rulemaking is required to implement a section of the NDAA for FY 2019 within the acquisition regulations.

Jennifer Lee Hawes,
Regulatory Control Officer, Defense Acquisition Regulations System.

[FR Doc. 2018-18357 Filed 8-23-18; 8:45 am]

BILLING CODE 5001-06-P